DEPARTMENT OF HEALTH AND HUMAN SERVICES

National Institutes of Health

National Institute on Aging; Amended Notice of Meeting

Notice is hereby given of a change in the meeting of the National Institute on Aging Special Emphasis Panel, October 26, 2015, 8:00 a.m. to October 26, 2015, 5:00 p.m., Hyatt Regency Bethesda, One Bethesda Metro Center, 7400 Wisconsin Avenue, Bethesda, MD, 20814 which was published in the Federal Register on August 31, 2015, 80 FR 52483.

The meeting notice is amended to add the meeting panel name: Training Grants in Aging. The meeting is closed to the public.

Dated: September 3, 2015.
Melanie J. Gray,
Program Analyst, Office of Federal Advisory Committee Policy.

[FR Doc. 2015-22662 Filed 9-8-15; 8:45 am]

BILLING CODE 4140-01-P